DEPARTMENT OF LABOR

Employment and Training Administration

Notice of Funding Opportunity and Solicitation for Grant Applications for Serving Juvenile Offenders in High-Poverty, High-Crime Communities Grants

AGENCY: Employment and Training Administration, Labor.

ACTION: Notice of Solicitation for Grant Applications (SGA).

Funding Opportunity Number: SGA/DFA PY 11-09.

SUMMARY: The U.S. Department of Labor (Department or DOL), Employment and Training Administration (ETA), announces the availability of approximately $20 million in grant funds authorized by the Workforce Investment Act to serve juvenile offenders, ages 14 and above, in high-poverty, high-crime communities. The purpose of these grants is to improve the long-term labor market prospects of these youth. These grants will be awarded through a competitive process open to organizations with the capacity to implement multi-site, multi-state projects. The Department expects to award four grants of $5 million each to cover a 32-month period of performance that includes up to 6 months of planning and a minimum of 26 months of operation. DOL will require grantees to competitively select local sub-grantees to operate the program in a minimum of three high-poverty, high-crime communities in at least two states.

The complete SGA and any subsequent SGA amendments in connection with this solicitation are described in further detail on ETA's Web site at http://www.doleta.gov/grants/ or on http://www.grants.gov. The Web sites provide application information, eligibility requirements, review and selection procedures, and other program requirements governing this solicitation.

DATES: The closing date for receipt of applications is May 1, 2012.

FOR FURTHER INFORMATION CONTACT: Melissa Abdullah, 200 Constitution Avenue NW., Room N-4716, Washington, DC 20210; Telephone: 202-693-3346.

Signed March 9, 2012 in Washington, DC
Donna Kelly,
Grant Officer, Employment and Training Administration.

[FR Doc. 2012-6283 Filed 3-15-12; 8:45 am]

BILLING CODE 4510-FT-P